DEPARTMENT OF ENERGY

Federal Energy Regulatory Commission

[Docket No. EC06-65-000]

Bridgeport Energy LLC; Casco Bay Energy Company, LLC; Duke Energy Arlington Valley, LLC; Duke Energy Morro Bay LLC; Duke Energy Moss Landing LLC; Duke Energy Oakland LLC; Duke Energy South Bay LLC; Duke Energy Mohave, LLC; Griffith Energy LLC; Duke Energy Marketing America LLC; Duke Energy Trading and Marketing, L.L.C.; LS Power Development, LLC; LS Power Generation, LLC; LS Power Marketing, LLC; Notice of Filing

January 26, 2006.

Take notice that on January 19, 2006, Bridgeport Energy LLC (Bridgeport), Casco Bay Energy Company, LLC, Duke Energy Arlington Valley, LLC, Duke Energy Morro Bay LLC, Duke Energy Moss Landing LLC, Duke Energy Oakland LLC, Duke Energy South Bay LLC, Duke Energy Mohave, LLC (Duke Mohave), Griffith Energy LLC (Griffith and, collectively, the Project Companies), Duke Energy Marketing America, LLC (DEMA), Duke Energy Trading and Marketing, L.L.C. (DETM and together with the Project Companies and DEMA, Duke Applicants), LS Power Development, LLC (LSP Development), LS Power Generation, LLC (LSP Generation) and LS Power Marketing, LLC (LSP Marketing and together with LSP Development and LSP Generation, LSP Applicants and, collectively, Applicants), submitted an application pursuant to Section 203 of the Federal Power Act seeking authorization from the Commission pursuant to section 203 of the Federal Power Act for: (i) the transfer by certain subsidiaries of Duke Energy Corporation, and the acquisition by LSP Generation, of ownership interests in the Project Companies; and (ii) the transfer by DETM and DEMA, and the acquisition by certain Project Companies and/or LSP Marketing, of certain FERC-jurisdictional contracts pursuant to which DETM and DEMA sell electric energy at wholesale. In addition, Duke Applicants seek Commission authorization for an internal corporate reorganization related to Duke Mohave, Griffith and Bridgeport, and LSP Applicants seek Commission authorization for an internal corporate reorganization related to LSP Marketing. Applicants also request privileged treatment of commercially sensitive information included in the application and waiver of certain of the Commission's filing requirements.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 9, 2006.

Magalie R. Salas,
Secretary.

[FR Doc. E6-1448 Filed 2-2-06; 8:45 am]

BILLING CODE 6717-01-P